DEPARTMENT OF AGRICULTURE

Food and Nutrition Service

Agency Information Collection Activities: Proposed Collection; Comment Request—Follow Up to an Assessment of the Roles and Effectiveness of Community-Based Organizations in the Supplemental Nutrition Assistance Program

AGENCY: Food and Nutrition Service, USDA.

ACTION: Notice.

SUMMARY: In accordance with the Paperwork Reduction Act of 1995, this notice invites the general public and other public agencies to comment on this proposed information collection. This is a revision of an existing collection for the Food and Nutrition Service to describe the roles of community-based organizations (CBOs) in the Supplemental Nutrition Assistance Program (SNAP), and to assess if, and how, the use of CBOs to conduct SNAP applicant interviews has impacted SNAP program outcomes such as timeliness, payment error rates, access, and client satisfaction across five (5) States.

DATES: Written comments on this notice must be received on or before February 1, 2016.

ADDRESSES: Comments are invited on: (a) Whether the proposed collection of information is necessary for the proper performance of the functions of the agency, including whether the information will have practical utility; (b) the accuracy of the agency's burden estimate for the proposed collection of information, including the validity of the methodology and assumptions that were used; (c) ways to minimize the burden of the collection of information on those who are to respond, including use of appropriate automated, electronic, mechanical, or other technological collection techniques or other forms of information technology, and (d) ways to enhance the quality, utility and clarity of the information to be collected.

Comments may be sent to: Rosemarie Downer, Food and Nutrition Service/U.S. Department of Agriculture, 3101 Park Center Drive, Room 1014, Alexandria, VA 22302. Comments may also be submitted via fax to the attention of Rosemarie Downer at 703-305-2576 or via email to rosemarie.downer@fns.usda.gov. Comments will also be accepted through the Federal eRulemaking Portal. Go to http://www.regulations.gov and follow the online instructions for submitting comments electronically.

All written comments will be open for public inspection at the office of the Food and Nutrition Service during regular business hours (8:30 a.m. to 5:00 p.m., Monday through Friday) at 3101 Park Center Drive, Room 1014, Alexandria, Virginia 22302.

All responses to this notice will be summarized and included in the request for Office of Management and Budget approval. All comments will also become a matter of public record.

FOR FURTHER INFORMATION CONTACT: Requests for additional information or copies of this information collection should be directed to Rosemarie Downer at 703-305-2129. Information requests submitted through email should refer to the title of this proposal.

SUPPLEMENTARY INFORMATION: Title: Follow Up to an Assessment of the Roles and Effectiveness of Community-Based Organizations in the Supplemental Nutrition Assistance Program.

OMB Number: 0584-0578.

Form Number: Not Applicable.

Expiration Date: May 31, 2016.

Type of Request: Revision of a currently approval information collection.

Abstract: To provide more timely and efficient services to the growing number of applicants to SNAP, State and local SNAP offices are partnering with CBOs that have the capacity to provide application assistance and conduct applicant interviews for SNAP across five (5) States. FNS has approved these partnerships as part of a demonstration of “Community Partner Interviewer Projects.” In 2015, FNS released a report that assessed whether the use of CBOs to conduct SNAP applicant interviews had an impact on SNAP program performance. Specific program outcomes included efficiency, payment accuracy and client satisfaction. FNS has extended the demonstration projects, and to further assess the impact of these SNAP-CBO partnerships on SNAP program outcomes, FNS is seeking to collect additional data from the five States that are participating in the demonstration.

The information collection plan for this follow-up includes a satisfaction survey to be completed by SNAP participants who were interviewed by CBO staff at the time of application or recertification for SNAP, and program administration data (error rates, timeliness, payment accuracy, and eligibility determination) from the five participating States. FNS' data collection strategy aims to maximize both efficiency and data quality. The participant satisfaction survey will take no more than five minutes. FNS will use the information collected to evaluate whether the 10 Community Partner Interviewer projects have helped to improve SNAP access and performance.

Affected Public: 3,452 Individuals and Households (3,384 Respondent & 68 Non-Respondent type SNAP participants).

Estimated Number of Respondents: 3,384.

Estimated Number of Responses per Respondent: 1.

Estimated Total Annual Response: 3,384.

Estimated Time per Respondent: 0.08 hours (4.8 minutes).

Estimated Total Annual Burden on Respondents: 272.08 burden hours.

Affected Public: State Agencies.

Estimated Number of Respondents: 5 States.

Estimated Number of Responses per Respondent: 2.

Estimated Total Annual Responses: 10.

Estimated Time per Respondent: 1.

Estimated Total Annual Burden on Respondents: 10 burden hours.

Affected Public: Business-for-not-for-Profit (Respondent type: Community-Based Organizations (CBOs).

Estimated Number of Respondents: 10.

Estimated Number of Responses per Respondent: 338.40.

Estimated Total Annual Responses: 3,384.

Estimated Time per Respondent: 0.08.

Estimated Total Annual Burden on Respondents: 270.40.

FNS is requesting 552.48 burden hours.

There is no recordkeeping requirements involved in this data collection.

Dated: November 24, 2015.
Yvette S. Jackson,
Acting Administrator, Food and Nutrition Service.

[FR Doc. 2015-30442 Filed 11-30-15; 8:45 am]

BILLING CODE 3410-30-P